DEPARTMENT OF HOMELAND SECURITY

Coast Guard

33 CFR Part 100

[CGD07-03-098]

RIN 1625-AA08

Special Local Regulations; Race Week Miami Super Boat Race, Miami Beach, FL

AGENCY: Coast Guard, DHS.

ACTION: Temporary final rule.

SUMMARY: Temporary special local regulations are being established for the Race Week Miami Super Boat Race held offshore of Miami Beach, Florida. These regulations restrict the movement of non-participating vessels in the regulated area centered around the race course located in the vicinity of Miami Beach, Florida. These are needed to provide for the safety of life on navigable waters during the event.

DATES: This rule is effective from 11 a.m. EST on September 21, 2003 through 4 p.m. EST on September 21, 2003.

ADDRESSES: Documents indicated in the preamble as being available in the docket, are part of docket [CGD07-03-098] and are available for inspection or copying at Coast Guard Group Miami, 100 MacArthur Causeway, Miami Beach, Florida 33139 between 8 a.m. and 4:30 p.m., Monday through Friday, except Federal holidays.

FOR FURTHER INFORMATION CONTACT: BMC D. Vaughn, Coast Guard Group Miami, Florida at (305) 535-4317.

SUPPLEMENTARY INFORMATION:

Regulatory Information

We did not publish a notice of proposed rulemaking (NPRM) for this regulation. Under 5 U.S.C. 553(b)(B), the Coast Guard finds that good cause exists for not publishing an NPRM. Publishing an NPRM, which would incorporate a comment period before a temporary rule could be issued, would be contrary to public safety interests. Immediate action is needed to minimize potential danger to the public, because there will be numerous spectator craft in the vicinity of the powerboat race.

Background and Purpose

Super Boat International Productions Inc. is sponsoring a high speed power boat race that will take place on September 21, 2003 in the Atlantic Ocean off Miami Beach, Florida. The race organizers anticipate 35 participants and 200 spectator watercraft. The event will take place outside of the marked channel and will not interfere with commercial shipping. Recreational vessels and fishing vessels normally operate in the waters being used for the event. This rule is required to provide for the safety of life on navigable waters because of the inherent danger associated with a power boat race. The rule prohibits non-participating vessels from entering the regulated area offshore of Miami Beach, Florida, during the event. A Coast Guard Patrol Commander will be present during this event to monitor compliance with this regulation.

Discussion of Rule

This rule is required to provide for the safety of life on navigable waters because of the inherent danger associated with a power boat race.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). This rule only temporarily modifies the existing published rule.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

This rule may affect the following entities, some of which may be small entities: the owners or operators of vessels intending to transit or anchor in a portion of the Atlantic Ocean near Miami Beach, Florida from 11 a.m. until 4 p.m. EST on September 21, 2003. The Coast Guard certifies under U.S.C. 605(b) that this rule will not have a significant economic impact on a substantial number of small entities because commercial and recreational vessels may be allowed to transit through the zone during breaks in the racing.

Assistance for Small Entities

Under section 213(a) of the Small Business Regulatory Enforcement Fairness Act of 1996 (Pub. L. 104-121), we offer to assist small entities in understanding the rule so that they can better evaluate its effects on them and participate in the rulemaking process. Small entities may contact the person listed under FOR FURTHER INFORMATION CONTACT for assistance in understanding and participating in this rulemaking. We also have a point of contact for commenting on action by employees of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for Federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34) (h), of the Instruction, from further environmental documentation. A final “Environmental Analysis Check List” and a final “Categorical Exclusion Determination” are available in the docket where indicated under ADDRESSES.

List of Subjects in 33 CFR Part 100

Marine safety, Navigation (water), Reporting and recordkeeping requirements, Waterways.

For the reasons discussed in the preamble, the Coast Guard amends 33 CFR part 100, as follows:

PART 100—SAFETY OF LIFE ON NAVIGABLE WATERS

1. The authority citation for part 100 continues to read as follows:

Authority: 33 U.S.C. 1233; Department of Homeland Security Delegation No. 0170.

2. Add temporary § 100.35-T07-098 to read as follows:

§ 100.35-T07-098 Race Week Miami Super Boat Race; Miami Beach, Florida.

(a) Regulated areas. (1) The regulated area encompasses all waters located within 300 yards of the race course. The course is established around the described positions located offshore of Miami Beach, Florida; (1) 26 06.745″ N, 080 06.134″ W (2) 26 06.752″ N, 080 06.13″ W (3) 26 06.079″ N, 080 05.926″ W (4) 26 06.069″ N, 080 06.047″ W. All coordinates referenced use Datum: NAD 1983.

(2) A viewing area has been established by the Miami Super Boat Race committee by a line parallel to the shore passing through 26 06.738″ N, 080 05.594″ W. All coordinates reference Datum: NAD 1983.

(b) Coast Guard Patrol Commander. The Coast Guard Patrol Commander is a commissioned, warrant, or petty officer of the Coast Guard who has been designated by Commanding Officer, Coast Guard Group Miami FL.

(c) Special local regulations. Non-participant vessels are prohibited from entering the regulated area unless authorized by the Coast Guard Patrol Commander. Spectator craft may remain in the designated viewing area.

(d) Dates: This section is effective from 11 a.m. to 4 p.m. on September 21, 2003.

Dated: July 28, 2003.
F.M. Rosa,
Captain, U.S. Coast Guard, Acting Commander, Seventh Coast Guard District.

[FR Doc. 03-19901 Filed 8-4-03; 8:45 am]

BILLING CODE 4910-15-P